DEPARTMENT OF DEFENSE

Office of the Secretary

Notice of Availability of the Ballistic Missile Defense System Draft Programmatic Environmental Impact Statement

AGENCY: Missile Defense Agency, Department of Defense.

ACTION: Notice of availability and request for comment.

SUMMARY: In accordance with National Environmental Policy Act (NEPA) regulations, the Missile Defense Agency (MDA) is initiating a public review and comment period for a Draft Programmatic Environmental Impact Statement (PEIS). This notice announces the availability of the Ballistic Missile Defense System (BMDS) Draft PEIS, which analyzes the potential impacts to the environment as MDA proposes to develop, test, deploy, and plan for decommissioning activities to implement an integrated MDBS. This Draft PEIS addresses the integrated BMDS and the development and application of new technologies; evaluates the range of complex programs, architecture, and assets that comprise the BMDS; and provides the framework for future environmental analyses as activities evolve and mature. The Draft PEIS has been prepared in accordance with NEPA, as amended (42 U.S.C. 4321, et seq.), and the Council on Environmental Quality Regulations for implementing the procedural provisions of NEPA (40 CFR parts 1500-1508).

DATES: The public comment period for the NEPA process begins with the publication of this notice and request for comments in the Federal Register. Public hearings will be conducted as a part of the PEIS development process to ensure opportunity for all interested government and private organizations and the general public to provide comments on the environmental areas considered in the Draft PEIS. Schedule and location for the public hearings are:

▪ October 14, 2004, 6:30 p.m., Marriott Crystal City, 1999 Jefferson Davis Highway, Arlington, VA.

▪ October 19, 2994, 6 p.m., Sheraton Grand Hotel, 1230 J. St., Sacramento, CA.

▪ October 21, 2004, 6:30 p.m., Sheraton Hotel, 401 E. 6th Ave., Anchorage, AK.

▪ October 26, 2004, 6 p.m., Best Western Hotel, 3253 N. Nimitz Hwy, Honolulu, HI.

Copies of the Draft PEIS will be made available for review at various libraries. A list of library locations and a downloadable electronic version of the Draft PEIS are available on the MDA public access Internet Web site: http://www.acq.osd.mil/mda/peis/html/home.html. To ensure all comments are addressed in the Final PEIS, comments should be received at one of the addressed listed below no later than November 17, 2004.

ADDRESSES: Written and oral comments regarding the Draft PEIS should be directed to MDA BMDS PEIS, c/o ICF Consulting, 9300 Lee Highway, Fairfax, VA 22031, phone (Toll-Free) 1-877-MDA-PEIS (1-877-632-7347), Fax (Toll-Free) 1-877-851-5451, e-mail mda.bmds,peis@icfconsulting.com, or Web site http://www.acq.osd.mil/mda/peis/html/home.html.

FOR FURTHER INFORMATION CONTACT: Please call Mr. Rick Lehner, MDA Director of Communications at (703) 697-8997.

SUPPLEMENTARY INFORMATION: The MDA has a requirement to develop, test, deploy, and prepare for decommissioning the BMDS to protect the United States (U.S.), its deployed forces, friends, and allies from ballistic missile threats. The proposed action would provide an integrated BMDS using existing infrastructure and capabilities, when feasible, as well as emerging and new technologies, to meet current and evolving threats in support of the MDA's mission. Conceptually, the BMDS would be a layered system of weapons, sensors, Command and Control, Battle Management, and Communications (C2BMC), and support assets; each with specific functional capabilities, working together to defend against all classes and ranges of threat ballistic missiles in all phases of flight. Multiple defensive weapons would be used to create a layered defense comprised of multiple intercept opportunities along the incoming threat missile's trajectory. This would provide a layered defense system of capabilities designed to back up one another.

This Draft PEIS considers two alternative approaches for implementing the integrated BMDS. In Alternative 1, the MDA would develop, test, deploy, and plan to decommission land-, sea-, and air-based platforms for BMDS weapons components and related architecture and assets. The BMDS envisioned in Alternative 1 would include space-based sensors but would not include space-based weapons. In Alternative 2, the MDA would develop, test, deploy, and plan to decommission land-, sea-, air-, and space-based platforms for weapons and related architecture and assets. Alternative 2 would be identical to Alternative 1, with the addition of space-based defensive weapons.

Under the No Action Alternative, the MDA would not test, develop, deploy, or plan for decommissioning activities to implement an integrated BMDS. Instead, the MDA would continue existing test and development of discrete missile defensive systems as stand-alone defensive capabilities. Under the No Action Alternative, individual components would continue to be tested to determine the adequacy of their stand-alone capabilities, but would not be subjected to integrated system-wide tests. In addition, the C2BMC architecture would be designed around the needs of individual components and would not be designed to manage an integrated system.

The approach and methods for deployment and decommissioning of components under the No Action Alternative would be the same as under the proposed action. This alternative would not meet the purpose of or need for the proposed action or the specific direction of the President and the U.S. Congress to defend the U.S. against ballistic missile attack.

Potential impacts of Alternative 1 and Alternative 2 were analyzed in the Draft PEIS, including impacts to air quality, airspace, biological resources, geology and soils, hazardous materials and waste, health and safety, noise, transportation, orbital debris, and water resources. The impacts of the No Action Alternative would be the same as the impacts of developing and testing individual components, which would continue to comply with NEPA analyses and documentation requirements on a program-specific basis. Potential cumulative impacts of the proposed action are also addressed in the Draft PEIS.

Dated: September 10, 2004.
L.M. Bynum,
Alternate OSD Federal Register Liaison Officer, Department of Defense.

[FR Doc. 04-20813 Filed 9-16-04; 8:45 am]

BILLING CODE 5001-06-M